DEPARTMENT OF JUSTICE

Antitrust Division

Notice Pursuant to the National Cooperative Research and Production Act of 1993—Point of Care Marketing Association

Notice is hereby given that, on July 24, 2023, pursuant to section 6(a) of the National Cooperative Research and Production Act of 1993, 15 U.S.C. 4301 et seq. (“the Act”), POINT OF CARE MARKETING ASSOCIATION (“POCMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Point of Care Marketing Association, Verona, NJ. The nature and scope of POCMA's standards development activities are: to develop, promulgate and publish voluntary consensus standards for the Point of Care Media Advertising Industry using procedures that incorporate the attributes of openness, balance of interests, due process, and appeals process, and consensus. The POCMA intends to standardize the terms and conditions for point of care media advertising to make it easier for advertising agencies and marketers to buy and capture value from advertising in healthcare settings.

Suzanne Morris,
Deputy Director Civil Enforcement Operations, Antitrust Division.

[FR Doc. 2023-22234 Filed 10-4-23; 8:45 am]

BILLING CODE P